DEPARTMENT OF ENERGY

National Energy Technology Laboratory; Notice of Availability of a Funding Opportunity Announcement

AGENCY: National Energy Technology Laboratory, Department of Energy (DOE).

ACTION: Notice of availability of a funding opportunity announcement.

SUMMARY: Notice is hereby given of the intent to issue funding opportunity announcement no. DE-PS26-04NT42092 entitled “Solid State Lighting Core Technologies”. The Department of Energy (DOE), National Energy Technology Laboratory (NETL), on behalf of the Office of Energy Efficiency and Renewable Energy (EERE), announces that it intends to conduct a competitive funding opportunity announcement. DOE has set aggressive goals for solid state lighting (SSL) research and development: by 2015, to develop advanced solid state lighting technologies that, compared to conventional lighting technologies, are much more energy efficient, longer lasting, and cost-competitive. The SSL operational plan features two avenues: core technology research and product development. The core technology program will focus on breakthrough technologies that are typically longer-term in nature. These technology breakthrough projects will enable the product development organizations to continue their development process in parallel in order to advance the SSL technology and meet the goals of the program. Subject to approval of an exceptional circumstance determination pursuant to the Bayh-Dole Act, (covering inventions of small business, non-profit and educational institutions) core technology project recipients will be required to enter into good faith negotiations intended to lead to the licensing of inventions conceived or first actually reduced to practice under the project to product development organizations on a non-exclusive, royalty bearing basis for a defined field of use. In addition, DOE plans to competitively solicit a SSL Partnership composed of manufacturers and allies that broadly represent the industry. The partnership will, among other things, provide input and prioritization of the core technology needs.

The intent of this announcement is to solicit and receive applications for the core technology research area. This research will support multiple enabling or fundamental solid state lighting technology areas for general illumination applications. Applications should support the established mission of the 2003 Solid State Lighting Work-shop (http://www.netl.doe.gov/ssl/) held in Washington, DC in November 2003. Applications will be subjected to a comprehensive technical review and awards will be made to a select number of applicants based upon the evaluation criteria, relevant program policy factors, and the availability of funds.

DATES: The funding opportunity announcement will be available on the “Industry Interactive Procurement System” (IIPS) Web page located at http://e-center.doe.gov on or about February 27, 2004. Applicants can obtain access to the funding opportunity announcement from the address above or through DOE/NETL's Web site at http://www.netl.doe.gov/business. Questions and comments regarding the content of the announcement should be submitted through the “Submit Question” feature of IIPS at http://e-center.doe.gov. Locate the announcement on IIPS and then click on the “Submit Question” button. You will receive an electronic notification that your question has been answered. Responses to questions may be viewed through the “View Questions” feature. If no questions have been answered, a statement to that effect will appear. You should periodically check “View Questions” for new questions and answers.

FOR FURTHER INFORMATION CONTACT: Sue Miltenberger, MS I07, U.S. Department of Energy, National Energy Technology Laboratory, P.O. Box 880, 3610 Collins Ferry Road, Morgantown, WV 26507-0880. E-mail address: Susan.Miltenberger@netl.doe.gov; telephone number: (304) 285-4083.

SUPPLEMENTARY INFORMATION: It is anticipated that $6.0 million of Federal funding will be available for awards under this program. The anticipated funding would be available over multiple Federal fiscal years. Three to six awards are expected to be made in the fourth quarter of Fiscal Year 2004. Consistent with the recommendations and conclusions of the November 2003, Solid State Lighting Workshop, applications will be considered in the following areas: Topic Area 1—Inorganic; Subtopic (1a) High efficiency visible and near UV (>380nm) semiconductor materials for LED based on general illumination technology; Subtopic (1b) Advanced architecture and high power conversion efficiency emitters; Subtopic (1c) High temperature, efficient, long-life phosphors, luminescent materials for wavelength conversion and encapsulants; Topic Area 2—Organic; Subtopic (2a) High efficiency, low voltage, stable materials for OLED-based general illumination technology (hosts, dopants, and transport layers); Subtopic (2b) Strategies for improved light extraction and manipulation; and Subtopic (2c) Novel device structures for improved performance and low cost. Only research that is consistent with these needs and represents fundamental advancements in the price and performance relationship for solid state lighting for general illumination applications will be considered for award.

Once released, the funding opportunity announcement will be available for downloading from the IIPS Internet page. At this Internet site you will also be able to register with IIPS, enabling you to submit an application. If you need technical assistance in registering or for any other IIPS function, call the IIPS Help Desk at (800) 683-0751 or e-mail the Help Desk personnel at IIPS_HelpDesk@e-center.doe.gov. The funding opportunity announcement will only be made available in IIPS, no hard (paper) copies of the funding opportunity announcement and related documents will be made available. Telephone requests, written requests, e-mail requests, or facsimile requests for a copy of the funding opportunity announcement will not be accepted and/or honored. Applications must be prepared and submitted in accordance with the instructions and forms contained in the announcement. The actual funding opportunity announcement document will allow for requests for explanation and/or interpretation.

Issued in Morgantown, WV, on February 10, 2004.
Dale A. Siciliano,
Director, Acquisition and Assistance Division.

[FR Doc. 04-3741 Filed 2-19-04; 8:45 am]

BILLING CODE 6450-01-P